DEPARTMENT OF COMMERCE

International Trade Administration

[A-469-821]

Prestressed Concrete Steel Wire Strand From Spain: Final Affirmative Determination of Sales at Less Than Fair Value and Final Negative Determination of Critical Circumstances

AGENCY: Enforcement and Compliance, International Trade Administration, Department of Commerce.

SUMMARY: The Department of Commerce (Commerce) determines that prestressed concrete steel wire strand (PC strand) from Spain is being, or is likely to be, sold in the United States at less than fair value (LTFV).

DATES: Applicable April 9, 2021.

FOR FURTHER INFORMATION CONTACT: Terre Keaton Stefanova or William Miller, AD/CVD Operations, Office II, Enforcement and Compliance, International Trade Administration, U.S. Department of Commerce, 1401 Constitution Avenue NW, Washington, DC 20230; telephone: (202) 482-1280 or (202) 482-3906, respectively.

SUPPLEMENTARY INFORMATION:

Background

On November 19, 2020, Commerce published the Preliminary Determination of sales at LTFV of PC strand from Spain and invited interested parties to comment on our findings.¹ We received no comments from interested parties on the Preliminary Determination.

¹ See Prestressed Concrete Steel Wire Strand from Spain: Preliminary Affirmative Determination of Sales at Less Than Fair Value, Preliminary Negative Determination of Critical Circumstances, Postponement of Final Determination, and Extension of Provisional Measures, 85 FR 73683 (November 19, 2020) (Preliminary Determination), and accompanying Preliminary Decision Memorandum (PDM).

Period of Investigation

The period of investigation is April 1, 2019, through March 31, 2020.

Scope of the Investigation

The product covered by this investigation is PC strand from Spain. For a full description of the scope of this investigation, see the appendix to this notice.

Verification

Commerce was unable to conduct on-site verification of the information relied upon in making its final determination in this investigation as provided for in section 782(i) of the Tariff Act of 1930, as amended (the Act). Accordingly, we took additional steps in lieu of an on-site verification to verify the information relied upon in making this final determination.²

² See Commerce's Letter, “Antidumping Duty Investigation of Prestressed Concrete Steel Wire Strand from Spain,” dated December 10, 2020; see also TYCSA's Letter, “Prestressed Concrete Steel Wire Strand from Spain: Response to the Questionnaire in Lieu of Verification,” dated December 18, 2020.

Changes Since the Preliminary Determination

Because we received no comments from interested parties on our Preliminary Determination, we have made no changes to our calculations for the final determination.

Final Negative Determination of Critical Circumstances

Consistent with the Preliminary Determination,³ Commerce continues to determine that critical circumstances do not exist within the meaning of section 735(a)(3) of the Act.

³ See Preliminary Determination PDM at 4-6.

All-Others Rate

As discussed in the Preliminary Determination, Commerce based the all-others rate on the above de minimis weighted-average dumping margin calculated for Global Special Steel Products S.A.U. (d.b.a. Trenzas y Cables de Acero PSC, S.L. (TYCSA)), the only individually examined exporter/producer in this investigation, in accordance with section 735(c)(5)(A) of the Act. We made no changes to the all-others rate for this final determination.

Final Determination

The final estimated weighted-average dumping margins are as follows:

Exporter/producer | Estimated weighted- average dumping margin (percent)
Global Special Steel Products S.A.U. (d.b.a. Trenzas y Cables de Acero PSC, S.L. (TYCSA)) | 14.75
All Others | 14.75

Disclosure

Normally, Commerce discloses to interested parties the calculations performed in connection with a final determination, in accordance with 19 CFR 351.224(b). However, because Commerce received no comments on and made no changes to the margin calculations in the Preliminary Determination, there are no calculations to disclose.⁴

⁴ See Preliminary Determination PDM at 4 (“Discussion of the Methodology”).

Continuation of Suspension of Liquidation

In accordance with section 735(c)(1)(B) of the Act, Commerce will instruct U.S. Customs and Border Protection (CBP) to continue to suspend liquidation of all entries of PC strand from Spain, as described in the “Scope of the Investigation” in the appendix, which entered, or were withdrawn from warehouse, for consumption on or after the date of publication in the of the Preliminary Determination.

Pursuant to section 735(c)(1)(B)(ii) of the Act and 19 CFR 351.210(d), we will instruct CBP to require a cash deposit for such entries of merchandise equal to the amount by which the normal value exceeds the U.S. price as follows: (1) For TYCSA, the cash deposit rate will be equal to the weighted-average dumping margin determined in this final determination; (2) if the exporter is not the company identified above, but the producer is, then the cash deposit rate will be equal to the weighted-average dumping margin determined in this final determination; and (3) the cash deposit rate for all other producers and exporters will be 14.75 percent. These suspension of liquidation instructions will remain in effect until further notice.

International Trade Commission Notification

In accordance with section 735(d) of the Act, we will notify the International Trade Commission (ITC) of the final affirmative determination of sales at LTFV. Because Commerce's final determination is affirmative, in accordance with section 735(b)(2) of the Act, the ITC will make its final determination as to whether the domestic industry in the United States is materially injured, or threatened with material injury, by reason of imports, or sales (or the likelihood of sales) for importation of PC strand from Spain no later than 45 days after this final determination. If the ITC determines that material injury or threat of material injury does not exist, the proceeding will be terminated, and all cash deposits will be refunded. If the ITC determines such injury does exist, Commerce will issue an antidumping duty order directing CBP to assess, upon further instruction by Commerce, antidumping duties on all imports of the subject merchandise, entered, or withdrawn from warehouse, for consumption on or after the effective date of the suspension of liquidation, as discussed above in the ”Continuation of Suspension of Liquidation” section.

Notification Regarding Administrative Protective Order

This notice serves as the only reminder to parties subject to an administrative protective order (APO) of their responsibility concerning the disposition of proprietary information disclosed under APO in accordance with 19 CFR 351.305(a)(3). Timely notification of the return or destruction of APO materials or conversion to judicial protective order is hereby requested. Failure to comply with the regulations and the terms of an APO is a violation subject to sanction.

Notification to Interested Parties

We are issuing and publishing this determination and notice in accordance with sections 735(d) and 777(i) of the Act and 19 CFR 351.210(c).

Dated: April 5, 2021.
Christian Marsh,
Acting Assistant Secretary for Enforcement and Compliance.

Appendix—Scope of the Investigation

The merchandise covered by this investigation is prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft2 standard set forth in ASTM-A-475.

The PC strand subject to this investigation is currently classifiable under subheadings 7312.10.3010 and 7312.10.3012 of the Harmonized Tariff Schedule of the United States (HTSUS). Although the HTSUS subheadings are provided for convenience and customs purposes, the written description of the scope of this investigation is dispositive.

[FR Doc. 2021-07308 Filed 4-8-21; 8:45 am]

BILLING CODE 3510-DS-P